DEPARTMENT OF TRANSPORTATION

Federal Aviation Administration

14 CFR Part 39

[Docket No. 2001-CE-21-AD]

RIN 2120-AA64

Airworthiness Directives; Raytheon Aircraft Company 200, 300, and 1900 Series, and Models F90 and A100-1 Airplanes

AGENCY: Federal Aviation Administration, DOT.

ACTION: Notice of proposed rulemaking (NPRM).

SUMMARY: This document proposes to adopt a new airworthiness directive (AD) that would apply to certain Raytheon Aircraft Company (Raytheon) 200, 300, and 1900 series, and Models F90 and A100-1 airplanes. This proposed AD would require you to check the airplane logbook to determine if the elevator(s) have been removed from the airplane. If the elevator(s) have been removed, this proposed AD would also require you to inspect the elevator balance weight attachment screws for correct length, and, if necessary, install new screws that are of improved design and rebalance the elevator, depending on the results of the inspection. This proposed AD is the result of the elevator balance weight attachment screws and balance weights being improperly installed when balancing the elevator after it had been removed for repair or repainting. The actions specified by this proposed AD are intended to prevent the balance weight attachment screws from becoming loose. Loose screws could come into contact and interfere with the horizontal stabilizer. This interference could restrict elevator movement and result in loss of elevator pitch control.

DATES: The Federal Aviation Administration (FAA) must receive any comments on this proposed rule on or before September 16, 2002.

ADDRESSES: Submit comments to FAA, Central Region, Office of the Regional Counsel, Attention: Rules Docket No. 2001-CE-21-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2001-CE-21-AD” in the subject line. If you send comments electronically as attached electronic files, the files must be formatted in Microsoft Word 97 for Windows or ASCII text.

You may get service information that applies to this proposed AD from Raytheon Aircraft Company, P.O. 9709 E. Central, Kansas 67201-0085; telephone: (800) 429-5372 or (316) 676-3140. You may also view this information at the Rules Docket at the address above.

FOR FURTHER INFORMATION CONTACT: Paul DeVore, Aerospace Engineer, FAA, Wichita Aircraft Certification Office, 1801 Airport Road, Mid-Continent Airport, Wichita, Kansas 67209; telephone: (316) 946-4142; facsimile: (316) 946-4407.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2001-CE-21-AD.” We will date stamp and mail the postcard back to you.

Discussion

What Events Have Caused This Proposed AD?

Raytheon notified FAA of three incidents in which the elevator jammed during takeoff and landing on Models 200, B300, and 1900C airplanes. Investigations showed the cause for the elevator to jam was that the attachment screws and balance weights were not properly installed when the elevators were balanced after they were removed for repair or repainting.

Improperly installed balance weight attachment screws could result in the screws becoming loose and contacting and interfering with the horizontal stabilizer. Interference with the horizontal stabilizer could result in restricted elevator movement.

What Are the Consequences if the Condition Is Not Corrected?

If this condition is not detected and corrected, loose screws could interfere with the horizontal stabilizer, which could cause restricted elevator movement. This condition could result in loss of elevator pitch control.

Is There Service Information That Applies to This Subject?

Raytheon has issued Mandatory Service Bulletin SB 27-3187, Rev. 1, September, 2001.

What Are the Provisions of This Service Information?

The service bulletin includes procedures for:

—Determining whether the elevator has been removed for repair or repaint;

—Inspecting the elevator balance weight attachment screws to determine if they are the correct length;

—Correcting the installation of improperly installed screws; and

—Rebalancing the elevators with new attachment bolts.

The FAA's Determination and an Explanation of the Provisions of This Proposed AD

What Has FAA Decided?

After examining the circumstances and reviewing all available information related to the incidents described above, we have determined that:

—The unsafe condition referenced in this document exists or could develop on other 200, 300, and 1900 series, and Models F90 and A100-1 airplanes of the same type design;

—Certain actions specified in the previously-referenced service information should be accomplished on the affected airplanes; and

—AD action should be taken in order to correct this unsafe condition.

What Would This Proposed AD Require?

This proposed AD would require you to check the airplane logbook to determine if the elevator(s) has/have been removed from the airplane. If the elevator(s) has/have been removed, this proposed AD would also require you to inspect the elevator balance weight attachment screws for correct length, and, if necessary, install new screws that are of improved design and rebalance the elevator, depending on the results of the inspection.

Cost Impact

How Many Airplanes Would This Proposed AD Impact?

We estimate that this proposed AD affects 2334 airplanes in the U.S. registry.

What Would Be the Cost Impact of This Proposed AD on Owners/Operators of the Affected Airplanes?

We estimate the following costs to accomplish the proposed check of the airplane logbook:

Labor cost | Parts cost | Total cost per airplane | Total cost on U.S. operators
1 workhour × $60 = $60 | None required | $60 | $140,040

We estimate the following costs to accomplish the proposed inspection of the elevator balance weight attachment screws that would be required based on the results of the proposed logbook check. We have no way of determining the number of airplanes that may need such inspection:

Labor cost | Parts cost | Total cost per airplane
2 workhours × $60 = $120 | None required | $120

We estimate the following costs to accomplish the proposed replacement of the elevator balance weight attachment screws that would be required based on the results of the proposed inspection for airplanes in which the logbook check reveals that further inspection is necessary. We have no way of determining the number of airplanes that may need such replacements:

Labor cost | Parts cost | Total cost per airplane
1 workhour × $60 = $60 | $16 per bolt × 2 bolts per elevator = $32 | $92

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations(14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 2001-CE-21-AD

(a) What airplanes are affected by this AD? This AD affects the following airplane models and serial numbers that are certificated in any category:

Model | Serial Nos.
(1) F90 | LA-2 through LA-236.
(2) A100-1 (U-21J) | BB-3 through BB-5.
(3) A200 (C-12C) | BC-1 through BC-75 and BD-1 through BD-30.
(4) A200C (UC-12B) | BJ-1 through BJ-66.
(5) A200CT (C-12D), (C-12F), (RC-12D), (FWC-12D), (RC-12G), (RC-12H), (RC-12K), or (RC-12P) | BP-1, BP-7 through BP-11, BP-22, BP-24 through BP-63, FC-1 through FC-3, GR-1 through GR-19, FE-1 through FE-9, FE-25 through FE-36.
(6) B200 | BB-734, BB-793, BB-829, BB-854 through BB-870, BB-874 through BB-891, BB-894, BB-896 through BB-911, and BB-913 through BB-1652.
(7) B200C | BL-37 through BL-57, BL-61 through BL-72, BL-124 through BL-140.
(8) B200C (C-12F), (C-12R), (UC-12M), or (UC-12F) | BL-73 through BL-112, BL-118 through BL-123, BP-64 through BP-71, BU-1 through BU-12, BV-1 through BV-12, and BW-1 through BW-29.
(9) B200CT | BN-2 through BN-4, FG-1 and FG-2.
(10) B200T and 200T | BT-1 through BT-38.
(11) 200 | BB-2, BB-6 through BB-733, BB-735 through BB-792, BB-794 through BB-828, BB-830 through BB-853, BB-872, BB-873, BB-892, BB-893, and BB-912.
(12) 200C | BL-1 through BL-23 and BL-25 through BL-36.
(13) 200CT | BN-1.
(14) 300 and 300LW | FA-1 through FA-230 and FF-1 through FF-19.
(15) B300 | FL-1 through FL-241.
(16) B300C | FM-1 through FM-9 and FN-1.
(17) 1900 | UA-2 and UA-3.
(18) 1900C | UB-1 through UB-74 and UC-1 through UC-174.
(19) 1900C (C-12J) | UD-1 through UD-6.
(20) 1900D | UE-1 through UE-358.

(b) Who must comply with this AD? Anyone who wishes to operate any of the airplanes identified in paragraph (a) of this AD must comply with this AD.

(c) What problem does this AD address? The actions specified by this AD are intended to prevent the balance weight attachment screws from becoming loose. Loose screws could come into contact and interfere with the horizontal stabilizer. This interference could restrict elevator movement and result in loss of elevator pitch control.

(d) What actions must I accomplish to address this problem? To address this problem, you must accomplish the following:

Actions | Compliance | Procedures
(1) Check the airplane logbook to determine whether the elevator(s) has/have been removed. The owner/operator holding at least a private pilot certificate as authorized by section 43.7 of the Federal Aviation Regulations (14 CFR 43.7) may check the airplane logbook | Within the next 200 hours time-in-service (TIS) after the effective date of this AD | No special procedures required to check the logbook. Raytheon Mandatory Service Bulletin SB 27-3187, Rev. 1, Revised: September, 2001, references this airplane logbook check.
(2) If, by checking the airplane logbook: (i) the pilot can positively show that both elevators have never been removed, then the requirements of paragraphs (d)(2)(ii) and (d)(3) of this AD do not apply. You must make an entry into the aircraft records that shows compliance with this portion of the AD, in accordance with section 43.9 of the Federal Aviation Regulations (14 CFR 43.9) | Within the next 200 hours time-in-service (TIS) after the effective date of this AD | In accordance with the Accomplishment Instructions section of Raytheon Mandatory Service Bulletin SB 27-3187, Rev. 1, Revised: September, 2001.
(ii) the pilot identifies that the elevator(s) has/have been removed, or if complete records of elevator(s) do not exist, inspect the elevator balance weight attachment screws to determine if they are the correct length
(3) If, during the inspection required in paragraph (d)(2)(ii) of this AD, the elevator balance weight attachment screws are found to be the correct length, paragraph (d)(4) of this AD does not apply | Not Applicable | In accordance with the Accomplishment Instructions section of Raytheon Mandatory Service Bulletin SB 27-3187, Rev. 1, Revised: September, 2001.
(4) If, during the inspection required in paragraph (d)(2)(ii) of this AD, the elevator balance weight attachment screw(s) is/are found to be the incorrect the length, remove and rebalance elevator(s) by installing the balance weights with the appropriate new elevator balance weight attachment bolts, part number (P/N) in the range of NAS6703HU12 through NAS6703HU22, that have drilled heads and are secured with safety wire, and re-install the elevator | Prior to further flight after the inspection required in paragraph (d)(2)(ii) of this AD | In accordance with the Accomplishment Instructions section of Raytheon Mandatory Service Bulletin SB 27-3187, Rev. 1, Revised: September, 2001, and the applicable maintenance manual.
(5) Do not install, on any affected airplane, an elevator that has been rebalanced unless it has been rebalanced by installing the balance weights with the appropriate new elevator balance weight attachment bolts, P/N in the range of NAS6703HU12 through NAS6703HU22, that have drilled heads and are secured with safety wire | As of the effective date of this AD | Not applicable.

Note 1: The compliance times specified in Raytheon Mandatory Service Bulletin SB 27-3187, Rev. 1, Revised: September, 2001, are different from those required by this AD. The compliance times in this AD take precedence over those in the service bulletin.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Paul DeVore, Aerospace Engineer, FAA, Wichita Aircraft Certification Office, 1801 Airport Road, Mid-Continent Airport, Wichita, Kansas 67209; telephone: (316) 946-4142; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Raytheon Aircraft Company, P.O. Box 85, Wichita, Kansas 67201-0085; telephone: (800) 429-5372 or (316) 676-3140. You may view these documents at FAA, Central Region, Office of the Regional Counsel, 901 Locust, Room 506, Kansas City, Missouri 64106.

Issued in Kansas City, Missouri, on July 9, 2002.
Michael K. Dahl,
Acting Manager, Small Airplane Directorate, Aircraft Certification Service.

[FR Doc. 02-17885 Filed 7-16-02; 8:45 am]

BILLING CODE 4910-13-P